FEDERAL MARITIME COMMISSION

[Docket No. 25-26]

Roger Waterloo dba EcoBamboo, Complainant v. Ship4wd, Inc., Respondent; Notice of Filing of Complaint and Assignment

Notice is given that a complaint has been filed with the Federal Maritime Commission (the “Commission”) by Roger Waterloo dba EcoBamboo (the “Complainant”) against Ship4wd, Inc. (the “Respondent”). Complainant states that the Commission has jurisdiction over the complaint pursuant to the Shipping Act of 1984, as amended, 46 U.S.C. 40101-41309.

Complainant is an individual engaged in the import and export of goods with a principal place of business in South Coffeyville, Oklahoma.

Complainant identifies Respondent as an ocean transportation intermediary and non-vessel-operating common carrier existing under the laws of Israel with its principal place of business in Haifa, Israel.

Complainant alleges that Respondent violated 46 U.S.C. 41102(c). Complainant alleges these violations arose from Respondent's procedural failures and misrepresentations in a contractually obligated fumigation and phytosanitary certification process, omission of required import documentation, improper handling of third-party agents, and other acts and omissions of Respondent.

An answer to the complaint must be filed with the Commission within 25 days after the date of service.

The full text of the complaint can be found in the Commission's electronic Reading Room at https://www2.fmc.gov/readingroom/proceeding/25-26/. This proceeding has been assigned to the Office of Administrative Law Judges. The initial decision of the presiding judge shall be issued by September 9, 2026, and the final decision of the Commission shall be issued by March 23, 2027.

(Authority: 46 U.S.C. 41301; 46 CFR 502.61(c))

Served: September 9, 2025.
David Eng,
Secretary.

[FR Doc. 2025-17951 Filed 9-16-25; 8:45 am]

BILLING CODE 6730-02-P